DEPARTMENT OF COMMERCE

National Oceanic and Atmospheric Administration

[RTID 0648-XE662]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day in-person meeting of its Shrimp Advisory Panel (AP).

DATES: The meeting will convene Tuesday, March 4, 2025, from 8:30 a.m. to 5 p.m., EST. For agenda details, see SUPPLEMENTARY INFORMATION.

ADDRESSES: The meeting will take place at the Gulf Council office. Registration information will be available on the Council's website by visiting www.gulfcouncil.org and clicking on the Shrimp AP meeting on the calendar.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible.)

Tuesday, March 4, 2025; 8:30 a.m.-5 p.m., EST

Meeting will begin with Introduction of Members, Adoption of Agenda, Approval of Summary from December 16, 2024 Meeting, and Scope of Work. The AP will review and discuss Council Actions in Response to Motions from the December 2024 Shrimp AP Meeting, receive updates on Number of Valid and Renewable Federal Gulf Shrimp Permits, Economics of the Federally-permitted Gulf Shrimp Fleet and hold a discussion of Potential Expiration of Moratorium for Federal Gulf Shrimp Permits. The AP will review 2023 Gulf Shrimp Fishery Landings, 2024 Texas Closure, 2023 Royal Red Landings, 2023 Gulf Shrimp Fishery Effort and Species-Specific Shrimp Effort Estimates.

Following lunch, the AP will receive updates on Secure Digital Card Returns, Early Adopter Program, Southeast Regional Office Protected Resources Sea Turtle Updates, Sea Turtle Take and Turtle Excluder Device Compliance, New Bycatch Estimates and Other Analyses for Smalltooth Sawfish and/or Giant Manta Ray. The AP will receive additional updates for Giant Manta Ray and Sawfish, and Biological Opinion Updates, and on Gulf Shrimp Stock Assessment (SEDAR 87), Revised Administrative Costs for Draft Shrimp Framework Action.

Lastly, the AP will receive any public testimony and discuss other business items.

Meeting Adjourns—

The in-person meeting will be broadcast via webinar. You may register by visiting www.gulfcouncil.org and clicking on the Shrimp Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Special Accommodations

The meeting is physically accessible to people with disabilities. Requests for sign language interpretation or other auxiliary aid or accommodations should be directed to Kathy Pereira, kathy.pereira@gulfcouncil.org, at least 5 days prior to the meeting date.

Authority: 16 U.S.C. 1801 et seq.

Dated: February 11, 2025.
Rey Israel Marquez,
Acting Deputy Director, Office of Sustainable Fisheries, National Marine Fisheries Service.

[FR Doc. 2025-02660 Filed 2-13-25; 8:45 am]

BILLING CODE 3510-22-P